NUCLEAR REGULATORY COMMISSION

10 CFR Parts 50 and 52

[NRC-2011-0299]

RIN 3150-AJ08

Station Blackout Mitigation Strategies

AGENCY: Nuclear Regulatory Commission.

ACTION: Regulatory basis for rulemaking.

SUMMARY: The U.S. Nuclear Regulatory Commission (NRC) is issuing a regulatory basis document to support the potential amendment of its regulations concerning nuclear power plant licensees' and applicants' station blackout mitigation strategies. The issuance of this regulatory basis document is one of the actions stemming from the NRC's lessons-learned efforts associated with the March 2011 Fukushima Dai-ichi Nuclear Power Plant accident in Japan.

DATES: At this time, the NRC is not soliciting formal public comments on the materials identified in this document. There will be an opportunity for formal public comment on the proposed rule when it is published in the Federal Register.

ADDRESSES: Please refer to Docket ID NRC-2011-0299 when contacting the NRC about the availability of information for this document. You may access information related to this document, which the NRC possesses and is publicly available, by any of the following methods:

• Federal Rulemaking Web site: Go to www.regulations.gov and search for Docket ID NRC-2011-0299. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The regulatory basis document, “Station Blackout Mitigation Strategies,” is available in ADAMS under Accession No. ML13171A061.

• NRC's PDR: You may examine and purchase copies of public documents at the NRC's PDR, Room O1-F21, One White Flint North, 11555 Rockville Pike, Rockville, Maryland 20852.

FOR FURTHER INFORMATION CONTACT: Timothy A. Reed, Office of Nuclear Reactor Regulation, U.S. Nuclear Regulatory Commission, Washington, DC 20555-0001; telephone: 301-415-1462; email: Timothy.Reed@nrc.gov.

SUPPLEMENTARY INFORMATION:

I. Background

As the NRC continues its ongoing proposed rulemaking effort to amend portions of Parts 50 and 52 of Title 10 of the Code of Federal Regulations (10 CFR) to incorporate requirements involving station blackout mitigation strategies (SBOMS), the NRC is making documents publicly available on the Federal rulemaking Web site, www.regulations.gov, under Docket ID NRC-2011-0299. This regulatory action is one of the near-term actions based on the lessons-learned from the March 11, 2011, Fukushima Dai-ichi accident in Japan. By making these documents publicly available, the NRC seeks to inform stakeholders of the current status of the NRC's rulemaking development activities. Stakeholders should also note that there two related petitions for rulemaking (PRM), both submitted by the Natural Resources Defense Council that are being addressed within this rulemaking. Those are PRM-50-100 (notice of consideration published in the Proposed Rules section of this issue of the Federal Register (NRC-2011-0189)) and PRM-50-101 (77 FR 16483; March 21, 2012; NRC-2011-0189) that endorse actions recommended by the Near Term Task Force (NTTF) in Recommendations 4 and 7, respectively.

II. Publicly Available Documents

The NRC has posted on www.regulations.gov a regulatory basis to support a rulemaking to incorporate requirements involving station blackout mitigation strategies into the Code of Federal Regulations. The regulatory basis documents the reasons why rulemaking now appears to be the appropriate course of action to remedy an apparent regulatory shortcoming. The regulatory basis reflects the NRC's consideration of stakeholder feedback on the draft regulatory basis published in the Federal Register for public comment on April 10, 2013 (78 FR 21275). Section 5 of the regulatory basis provides additional discussion regarding the stakeholder feedback that informed development of the SBOMS regulatory basis. Please note that the NRC may identify additional information through further rulemaking activities that may affect the NRC staff determination documented in the regulatory basis. Such information, if any, and its effects on the rulemaking effort will be documented in a notice published in the Federal Register in connection with this rulemaking.

Also note that the draft regulatory basis contained an appendix (i.e., Appendix A) that provided draft rule concepts which, during the rulemaking process, may evolve into regulatory requirements, guidance, or other regulatory information. Appendix A was not revised to reflect stakeholder feedback on the draft regulatory basis, and is not being republished with this regulatory basis. Instead stakeholder comments on the draft rule concepts deserve further deliberation and consideration, and are being considered as the NRC develops a proposed rule. The draft rule concepts, as a whole, do not represent a final NRC staff position and have not been approved by the Commission. Therefore, the proposed rule language that will subsequently be developed may change substantially from the draft rule concepts in the regulatory basis.

The NRC is not requesting formal public comments on the SBOMS regulatory basis. As they are developed, the NRC may post additional materials, including preliminary proposed rule language, to the Federal rulemaking Web site at www.regulations.gov, under Docket ID NRC-2011-0299. The Federal rulemaking Web site allows you to receive alerts when changes or additions occur in a docket folder. To subscribe: (1) Navigate to the docket folder (NRC-2011-0299); (2) click the “Email Alert” link; and (3) enter your email address and select how frequently you would like to receive emails (daily, weekly, or monthly).

III. Plain Writing

The Plain Writing Act of 2010, (Pub. L. 111-274) requires Federal agencies to write documents in a clear, concise, well-organized manner that also follows other best practices appropriate to the subject or field and the intended audience. Although regulations are exempt from these requirements under the Act, the NRC is applying the same principles to its rulemaking documents. Therefore, the NRC has written this document, including the preliminary proposed rule language, to be consistent with the Plain Writing Act.

Dated at Rockville, Maryland, this 16th day of July 2013.
For the Nuclear Regulatory Commission.
Lawrence E. Kokajko,
Director, Division of Policy and Rulemaking, Office of Nuclear Reactor Regulation.

[FR Doc. 2013-17660 Filed 7-22-13; 8:45 am]

BILLING CODE 7590-01-P